DEPARTMENT OF TRANSPORTATION

Federal Aviation Administration

14 CFR Part 39

[Docket No. FAA-2018-0113; Product Identifier 2017-NM-060-AD]

RIN 2120-AA64

Airworthiness Directives; Airbus Airplanes

AGENCY: Federal Aviation Administration (FAA), DOT.

ACTION: Notice of proposed rulemaking (NPRM).

SUMMARY: We propose to supersede Airworthiness Directive (AD) 2016-12-09, for certain Airbus Model A330-200, -200 Freighter, and -300 series airplanes; and Model A340-200 and -300 series airplanes. AD 2016-12-09 requires removing fasteners, doing a rototest inspection of fastener holes, installing new fasteners, oversizing the holes and doing rototest inspections for cracks if necessary, and repairing any cracking that was found. Since we issued AD 2016-12-09, an evaluation by the design approval holder (DAH) indicates that certain fastener holes are subject to widespread fatigue damage (WFD). This proposed AD would add airplanes to the effectivity, add repetitive inspections of the fastener holes at frame (FR) 40, and, for certain airplanes, require a modification, which terminates the inspections. We are proposing this AD to address the unsafe condition on these products.

DATES: We must receive comments on this proposed AD by April 12, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EAL, 1 Rond Point Maurice Bellonte, 31707 Blagnac Cedex, France; telephone: +33 5 61 93 36 96; fax: +33 5 61 93 45 80; email: airworthiness.A330-A340@airbus.com; internet: http://www.airbus.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0113; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Vladimir Ulyanov, Aerospace Engineer, International Section, Transport Standards Branch, FAA, 2200 South 216th St., Des Moines, WA 98198; telephone and fax: 206-231-3229.

SUPPLEMENTARY INFORMATION:

Comments Invited

We invite you to send any written relevant data, views, or arguments about this proposed AD. Send your comments to an address listed under the ADDRESSES section. Include “Docket No. FAA-2018-0113; Product Identifier 2017-NM-060-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Fatigue damage can occur locally, in small areas or structural design details, or globally, in widespread areas. Multiple-site damage is widespread damage that occurs in a large structural element such as a single rivet line of a lap splice joining two large skin panels. Widespread damage can also occur in multiple elements such as adjacent frames or stringers. Multiple-site damage and multiple-element damage cracks are typically too small initially to be reliably detected with normal inspection methods. Without intervention, these cracks will grow, and eventually compromise the structural integrity of the airplane. This condition is known as WFD. It is associated with general degradation of large areas of structure with similar structural details and stress levels. As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

We issued AD 2016-12-09, Amendment 39-18558 (81 FR 38573, June 14, 2016) (“AD 2016-12-09”), for certain Airbus Model A330-200, -200 Freighter, and -300 series airplanes, and Model A340-200 and -300 series airplanes. AD 2016-12-09 was prompted by reports that cracks were found on an adjacent hole of certain frames of the center wing box (CWB). AD 2016-12-09 requires removing fasteners, doing a rototest inspection of fastener holes, installing new fasteners, oversizing the holes and doing rototest inspections for cracks if necessary, and repairing any cracking that was found. We issued AD 2016-12-09 to detect and correct cracking on certain holes of the CWB, which could affect the structural integrity of the airplane.

Actions Since AD 2016-12-09 Was Issued

Since we issued AD 2016-12-09, an evaluation by the DAH indicates that the fastener holes at FR40 of the inside and outside CWB (above and below bottom skin) are subject to WFD.

The European Aviation Safety Agency (EASA), which is the Technical Agent for the Member States of the European Union, has issued EASA AD 2017-0069, dated April 25, 2017 (referred to after this as the Mandatory Continuing Airworthiness Information, or “the MCAI”), to correct an unsafe condition for certain Airbus Model A330-200, -200 Freighter, and -300 series airplanes, and Model A340-200 and -300 series airplanes. The MCAI states:

During accomplishment of A330 Airworthiness Limitation Item (ALI) task 57-11-04 on the rear fitting of the Frame (FR) 40 between stringers (STR) 38 and STR39 on both LH [left-hand] and RH [right-hand] sides of the fuselage, cracks were found on an adjacent hole. After reaming at second oversize of the subject hole, the crack was still present. As a result of a sampling inspection program, additional crack findings were reported on this adjacent hole on other A330 and A340 aeroplanes.

This condition, if not detected and corrected, could affect the structural integrity of the centre fuselage of the aeroplane.

Prompted by these findings, EASA issued AD 2014-0149 [which corresponds to FAA AD 2016-12-09] to require removal of the fasteners and repetitive Special Detailed Inspection (SDI) of fastener holes at FR40 vertical web above or below Centre Wing Box (CWB) lower panel reference on both LH and RH sides of the fuselage, and, depending on findings, accomplishment of the applicable corrective actions. That [EASA] AD excluded certain aeroplanes from the Applicability, on which Airbus modification (mod) 55792 or mod 55306 had been embodied in production.

Since EASA AD 2014-0149 was issued, prompted by complementary fatigue analyses correlated with in-service findings, Airbus published Service Bulletin (SB) A330-57-3115 Revision 01 and SB A340-57-4124 Revision 02, which introduced revised thresholds and intervals for the repetitive inspections of the inside CWB (above bottom skin), and an alleviation of the number of holes to be inspected, for post-mod 44360 and pre-mod 55306 configuration aeroplanes.

In addition, for aeroplanes in post-mod 44360, post-mod 55306 and pre-mod 205225 configuration, Airbus developed mod 206051, introducing reinforcement of the structural integrity of the inside CWB (above bottom skin) area, and published associated Airbus SB A330-57-3129 and SB A340-57-4136, as applicable, which avoids the need for required repetitive inspections for the inside of the CWB.

Finally, Airbus published SB A330-57-3116 Revision 01 and SB A330-57-4125 Revision 01, as applicable, to expand their Effectivity to include aeroplanes in post-mod 44360 and post-mod 49202 configuration for inspections of the outside CWB (below bottom skin), and introduced revised thresholds and intervals for the repetitive inspections of the outside CWB, and to provide an alleviation of the number of holes to be inspected. The repetitive inspection program for aeroplanes in pre-mod 44360 configuration remains unchanged.

For the reasons described above, this [EASA] AD partially retains the requirements of EASA AD 2014-0149, which is superseded, and requires new repetitive inspections of the fastener holes at FR40 of the inside and the outside CWB (above and below bottom skin), and the implementation of the modification of the inside CWB, as terminating action of the repetitive SDI.

Required actions also include oversizing certain holes, installing new fasteners, and repairing any cracking that is found.

The compliance times for the inspections range depending on airplane operation and utilization. The earliest initial flight-cycle compliance time is 13,500 flight cycles. The earliest initial flight-hour compliance time is 57,000 flight hours. The latest initial flight-cycle compliance time is 30,900 flight cycles. The latest initial flight-hour compliance time is 162,000 flight hours. The earliest repetitive flight-cycle compliance time is 5,950 flight cycles. The earliest repetitive flight-hour compliance time is 24,300 flight hours. The latest repetitive flight-cycle compliance time is 7,400 flight cycles. The latest repetitive flight-hour compliance time is 40,400 flight hours. You may examine the MCAI in the AD docket on the internet at http://www.regulations.gov by searching for and locating Docket No. FAA-2018-0113.

Related Service Information Under 1 CFR Part 51

Airbus has issued the following service information. This service information describes procedures for removing the fasteners and doing a repetitive rototest inspection of fastener holes at FR40 vertical web on both sides, checking for the existence of a repair done as specified by a repair design approval sheet (RDAS), installing new fasteners in transition fit, oversizing the holes, and repairing any crack found. This service information is distinct because it applies to different airplane models and configurations.

• Airbus Service Bulletin A330-57-3114, Revision 01, dated January 13, 2017.

• Airbus Service Bulletin A330-57-3115, Revision 01, including Appendices 01 and 02, dated November 23, 2016.

• Airbus Service Bulletin A330-57-3116, Revision 01, including Appendices 01 and 02, dated November 23, 2016.

• Airbus Service Bulletin A340-57-4123, Revision 01, dated January 13, 2017.

• Airbus Service Bulletin A340-57-4124, Revision 02, including Appendices 01 and 02, dated November 23, 2016.

• Airbus Service Bulletin A340-57-4125, Revision 01, including Appendices 01 and 02, dated November 23, 2016.

Airbus has also issued the following service information. This service information describes procedures for modification of certain fastener holes. The modification includes a rotating probe inspection for cracking, related investigative actions (checks of the hole diameter), and corrective actions (repair). This service information is distinct because it applies to different airplane models and configurations.

• Airbus Service Bulletin A330-57-3129, dated October 5, 2016.

• Airbus Service Bulletin A330-57-3130, dated November 23, 2016.

• Airbus Service Bulletin A330-57-3131, dated November 23, 2016.

• Airbus Service Bulletin A330-57-3132, including Appendices 01 and 02, dated November 23, 2016.

• Airbus Service Bulletin A340-57-4136, dated October 5, 2016.

• Airbus Service Bulletin A340-57-4137, dated November 23, 2016.

• Airbus Service Bulletin A340-57-4138, dated November 23, 2016.

• Airbus Service Bulletin A340-57-4139, including Appendices 01 and 02, dated November 23, 2016.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Explanation of a Certain Compliance Time

The compliance time for the replacement specified in this proposed AD for addressing WFD was established to ensure that discrepant structure is replaced before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this proposed AD affects 99 airplanes of U.S. registry.

We estimate the following costs to comply with this proposed AD:

Estimated Costs
Action | Labor cost | Parts cost | Cost per product | Cost on U.S. operators
Inspection (retained actions from AD 2016-12-09) (35 airplanes) | 78 work-hours × $85 per hour = $6,630 per inspection cycle | $0 | $6,630 per inspection cycle | $232,050 per inspection cycle.
Inspection (new proposed action) (99 airplanes) | Up to 257 work-hours × $85 per hour = $21,845 per inspection cycle | $0 | Up to $21,845 per inspection cycle | Up to $2,162,655 per inspection cycle.
Modification (new proposed action) (Up to 99 airplanes) | Up to 136 work-hours × $85 per hour = $11,560 | Up to $1,070 | Up to $12,630 | Up to $1,250,370.

We estimate the following costs to do any necessary on-condition actions that would be required based on the results of the proposed inspection. We have no way of determining the number of aircraft that might need these actions:

On-Condition Costs
Action | Labor cost | Parts cost | Cost per product
Oversize, installation, and inspection | Up to 105 work-hours × $85 per hour = $8,925 | Up to $21,560 | Up to $30,485

We have received no definitive data that would enable us to provide cost estimates for the on-condition repairs specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-12-09, Amendment 39-18558 (81 FR 38573, June 14, 2016), and adding the following new AD:

Airbus: Docket No. FAA-2018-0113; Product Identifier 2017-NM-060-AD.

(a) Comments Due Date

We must receive comments by April 12, 2018.

(b) Affected ADs

This AD replaces AD 2016-12-09, Amendment 39-18558 (81 FR 38573, June 14, 2016) (“AD 2016-12-09”).

(c) Applicability

This AD applies to the Airbus airplanes identified in paragraphs (c)(1) through (c)(5) of this AD, certificated in any category, all manufacturer serial numbers, except those on which Airbus Repair Instructions R57115092 have been embodied in service on both right-hand (RH) and left-hand (LH) sides.

(1) Model A330-201, -202, -203, -223, and -243 airplanes.

(2) Model A330-223F and -243F airplanes.

(3) Model A330-301, -302, -303, -321, -322, -323, -341, -342, and -343 airplanes.

(4) Model A340-211, -212, and -213 airplanes.

(5) Model A340-311, -312, and -313 airplanes.

(d) Subject

Air Transport Association (ATA) of America Code 57, Wings.

(e) Reason

This AD was prompted by reports that cracks were found on an adjacent hole of certain frames of the center wing box (CWB). We are issuing this AD to detect and correct cracking of certain holes of certain frames of the CWB, which could affect the structural integrity of the airplane.

(f) Compliance

Comply with this AD within the compliance times specified, unless already done.

(g) Service Information

(1) For the actions required by paragraphs (h), (i), and (j) of this AD, use the applicable service information specified in paragraphs (g)(1)(i) through (g)(1)(vi) of this AD.

(i) Airbus Service Bulletin A330-57-3114, Revision 01, dated January 13, 2017 (CWB inspection area: Below) (for Model A330-300 series airplanes in pre-modification 44360 configuration).

(ii) Airbus Service Bulletin A330-57-3115, Revision 01, including Appendices 01 and 02, dated November 23, 2016 (CWB inspection area: Above) (for Model A330-200 and -300 series airplanes in pre-modification 55306 and pre-modification 55792 configuration).

(iii) Airbus Service Bulletin A330-57-3116, Revision 01, including Appendices 01 and 02, dated November 23, 2016 (CWB inspection area: Below) (for Model A330-200 and -300 series airplanes in post-modification 44360 configuration).

(iv) Airbus Service Bulletin A340-57-4123, Revision 01, dated January 13, 2017 (CWB inspection area: Below) (for Model A340-200 and -300 series airplanes in pre-modification 44360 configuration).

(v) Airbus Service Bulletin A340-57-4124, Revision 02, including Appendices 01 and 02, dated November 23, 2016 (CWB inspection area: Above) (for Model A340-200 and -300 series airplanes in pre-modification 55306 and pre-modification 55792 configuration).

(vi) Airbus Service Bulletin A340-57-4125, Revision 01, including Appendices 01 and 02, dated November 23, 2016 (CWB inspection area: Below) (for Model A340-200 and -300 series airplanes in post-modification 44360 configuration).

(2) For the modification required by paragraph (o)(1) of this AD, use the applicable service information specified in paragraphs (g)(2)(i) through (g)(2)(vi) of this AD.

(i) Airbus Service Bulletin A330-57-3130, dated November 23, 2016 (for Model A330-200 and -300 series airplanes in post-modification 44360, post-Airbus Service Bulletin A330-57-3131, and pre-modification 49202 configuration).

(ii) Airbus Service Bulletin A330-57-3131, dated November 23, 2016 (for Model A330-200 and -300 series airplanes in post-modification 44360 and pre-modification 55306 configuration).

(iii) Airbus Service Bulletin A330-57-3132, including Appendices 01 and 02, dated November 23, 2016 (for Model A330-200 and -300 series airplanes in post-modification 44360 configuration).

(iv) Airbus Service Bulletin A340-57-4137, dated November 23, 2016 (for Model A340-200 and -300 series airplanes in post-modification 44360, post-Airbus Service Bulletin A340-57-4138, and pre-modification 49202 configuration).

(v) Airbus Service Bulletin A340-57-4138, dated November 23, 2016 (for Model A340-200 and -300 series airplanes in post-modification 44360 and pre-modification 55306 configuration).

(vi) Airbus Service Bulletin A340-57-4139, including Appendices 01 and 02, dated November 23, 2016 (for Model A340-200 and -300 series airplanes in post-modification 44360 configuration).

(h) Repetitive Inspections and Certain Repairs

Except as specified in paragraphs (l)(2), (l)(3), (p) of this AD: Before exceeding the applicable threshold specified in paragraph 1.E., “Compliance” of the applicable service information specified in paragraph (g)(1) of this AD, or within the compliance time specified in table 1 to paragraph (h) of this AD, whichever occurs later; remove the fasteners and accomplish a special detailed inspection (SDI) of the fastener holes at frame (FR) 40 vertical web, on both LH and RH sides, of the affected CWB lower panel area, and, as applicable, check for the existence of a repair done as specified by a repair design approval sheet (RDAS), in accordance with the Accomplishment Instructions of the applicable service information specified in paragraph (g)(1) of this AD, and if any RDAS repair is found before further flight, repair using a method approved by the Manager, International Section, Transport Standards Branch, FAA; or the European Aviation Safety Agency (EASA); or Airbus's EASA Design Organization Approval (DOA). If approved by the DOA, the approval must include the DOA-authorized signature. Repeat the SDI thereafter at the applicable intervals specified in paragraph 1.E., “Compliance,” of the applicable service information identified in paragraph (g)(1) of this AD.

(i) Follow-On Actions: No Cracking

If no crack is found during any inspection required by paragraph (h) of this AD: Before further flight, install new fasteners in the transition fit, in accordance with the Accomplishment Instructions of the applicable service information specified in paragraph (g)(1) of this AD.

(j) Follow-On Actions: Cracking

If any crack is found during any inspection required by paragraph (h) of this AD: Before further flight, oversize the holes to the first oversize in comparison with the current hole diameter, and do an SDI for cracks, in accordance with the Accomplishment Instructions of the applicable service information identified in paragraph (g)(1) of this AD.

(1) If no cracking is found during the SDI required by the introductory text of paragraph (j) of this AD: Before further flight, install new fasteners in the transition fit, in accordance with the Accomplishment Instructions of the applicable service information identified in paragraph (g)(1) of this AD.

(2) If any cracking is found during the SDI required by the introductory text of paragraph (j) of this AD: Before further flight, repair using a method approved by the Manager, International Section, Transport Standards Branch, FAA; or EASA; or Airbus's EASA DOA. If approved by the DOA, the approval must include the DOA-authorized signature.

(k) No Reporting Required

Although the applicable service information specified in paragraph (g)(1) of this AD specifies to submit certain information to the manufacturer, and specifies that action as “RC” (Required for Compliance), this AD does not include that requirement.

(l) Exceptions to Service Information

(1) Where the applicable service information identified in paragraphs (g) and (m) of this AD specifies contacting Airbus for appropriate action: Before further flight, repair using a method approved by the Manager, International Section, Transport Standards Branch, FAA; or EASA; or Airbus's EASA DOA. If approved by the DOA, the approval must include the DOA-authorized signature.

(2) Where paragraph 1.E., “Compliance,” of the applicable service information specified in paragraph (g)(1) of this AD specifies a compliance time in terms of a “Threshold” and “Grace Period,” this AD requires compliance at the later of the applicable threshold and grace period.

(3) When it is determined that no RDAS is found to exist for the FR40 area it is acceptable to accomplish the first SDI before exceeding the applicable threshold, instead of “before next flight”, as specified in the applicable service information specified in paragraph (g)(1)(ii), (g)(1)(iii), (g)(1)(v) and (g)(1)(vi) of this AD.

(m) Modification for Airplanes in Post-Modification 55306 and Pre-Modification 205225 Configuration

For airplanes in post-modification 55306 and pre-modification 205225 configuration: Before exceeding the applicable compliance time specified in table 2 to paragraph (m) of this AD, as applicable, or within 18 months after the effective date of this AD, whichever occurs later; modify the inside CWB (above bottom skin), including doing a rotating probe inspection for cracking and all applicable related investigative and corrective actions, in accordance with the Accomplishment Instructions of Airbus Service Bulletin A330-57-3129, dated October 5, 2016; or Airbus Service Bulletin A340-57-4136, dated October 5, 2016; as applicable; except as required by paragraph (l)(1) of this AD. Do all applicable related investigative and corrective actions before further flight.

(n) Terminating Action for Certain Airworthiness Limitation Item (ALI) Tasks

(1) Accomplishment on an airplane of the initial and repetitive inspections required by paragraph (h) of this AD terminates the requirements of ALI task 57-11-02 and task 57-11-04 of the applicable Airbus Airworthiness Limitation Section (ALS) Part 2, Damage Tolerant (DT) ALI, for that airplane.

(2) Modification of an airplane as required by paragraph (m) of this AD terminates the requirements of ALI task 57-11-02 of the applicable Airbus ALS Part 2, DT ALI, for that airplane.

(o) Terminating Action for Repetitive SDI Inspections

(1) Modification of a post-modification 44360 airplane by multiple cold working, including doing a rotating probe inspection for cracking and all applicable related investigative and corrective actions, in accordance with the Accomplishment Instructions of the applicable Airbus service information specified in paragraph (g)(2) of this AD, except as required by paragraph (l)(1) of this AD, constitutes terminating action for the repetitive SDI required by paragraph (h) of this AD for that airplane, provided the modification is accomplished within the applicable compliance times specified in the applicable Airbus service information specified in paragraph (g)(1) of this AD.

(2) If, during any inspection of a post-modification 44360 airplane, as required by paragraph (h) of this AD, a crack previously repaired by an Airbus RDAS is detected only on the LH or RH side, it is permitted to do the modification specified in paragraph (o)(1) of this AD on the non-repaired side. Doing the modification constitutes terminating action for the repetitive SDI required by paragraph (h) of this AD on the modified side only.

(p) Extension to Compliance Time for Certain Airplanes

For post-modification 44360 airplanes and pre-modification 55306 airplanes that have been inspected before the effective date of this AD as required by AD 2016-12-09: It is permitted to defer the next due inspection to 18 months after the effective date of this AD, provided the previous inspection interval, as applicable, depending on airplane configuration and utilization, as specified in the service information used in the previous inspection is not exceeded.

(q) Credit for Previous Actions

(1) This paragraph provides credit for the actions required by paragraphs (h) through (j) of this AD, if those actions were performed before the effective date of this AD using the applicable service information specified in paragraphs (q)(1)(i) through (q)(1)(vi) of this AD. This service information was incorporated by reference in AD 2016-09-11, Amendment 39-18509 (81 FR 27986, May 9, 2016).

(i) Airbus Service Bulletin A330-57-3114, dated March 12, 2013.

(ii) Airbus Service Bulletin A330-57-3115, April 4, 2013.

(iii) Airbus Service Bulletin A330-57-3116, dated March 12, 2013.

(iv) Airbus Service Bulletin A340-57-4123, dated March 12, 2013.

(v) Airbus Service Bulletin A340-57-4124, Revision 01, dated August 22, 2013.

(vi) Airbus Service Bulletin A340-57-4125, dated March 12, 2013.

(2) This paragraph provides credit for the actions required by paragraphs (h) through (j) of this AD, if those actions were performed before the effective date of this AD using Airbus Service Bulletin A340-57-4124, dated April 4, 2013. This service information is not incorporated by reference in this AD.

(3) This paragraph provides credit for the actions required by paragraphs (h) through (j) of this AD, if those actions were performed before the effective date of this AD using the applicable service information specified in paragraphs (q)(3)(i) through (q)(3)(viii) of this AD. This service information is not incorporated by reference in this AD.

(i) Airbus Technical Disposition LR57D11023270, Issue B, dated July 12, 2011.

(ii) Airbus Technical Disposition LR57D11029170, Issue C, dated September 6, 2011.

(iii) Airbus Technical Disposition LR57D11029171, Issue B, dated September 6, 2011.

(iv) Airbus Technical Disposition LR57D11029172, Issue B, dated September 6, 2011.

(v) Airbus Technical Disposition LR57D11029173, Issue B, dated September 6, 2011.

(vi) Airbus Technical Disposition LR57D11023714, Issue B, dated July 12, 2011.

(vii) Airbus Technical Disposition LR57D11030740, Issue C, dated September 22, 2011.

(viii) Airbus Technical Disposition LR57D11030741, Issue B, dated September 22, 2011.

(r) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the International Section, send it to the attention of the person identified in paragraph (s)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): Except as required by paragraphs (k) and (l)(1) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(s) Related Information

(1) Refer to Mandatory Continuing Airworthiness Information (MCAI) EASA AD 2017-0069, dated April 25, 2017, for related information. This MCAI may be found in the AD docket on the internet at http://www.regulations.gov by searching for and locating Docket No. FAA-2018-0113.

(2) For more information about this AD, contact, Vladimir Ulyanov, Aerospace Engineer, International Section, Transport Standards Branch, FAA, 2200 South 216th St., Des Moines, WA 98198; telephone and fax: 206-231-3229.

(3) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; internet: http://www.airbus.com. You may view this service information at the FAA, Transport Standards Branch, 2200 South 216th St., Des Moines, WA. For information on the availability of this material at the FAA, call 206-231-3195.

Issued in Renton, Washington, on February 14, 2018.
Michael Kaszycki,
Acting Director, System Oversight Division, Aircraft Certification Service.

[FR Doc. 2018-03599 Filed 2-23-18; 8:45 am]

BILLING CODE 4910-13-P